DEPARTMENT OF ENERGY

Federal Energy Regulatory Commission

[Docket No. AD11-1-000]

Reliability Monitoring, Enforcement and Compliance Issues; Agenda for the Technical Conference

November 2, 2010.

The Federal Energy Regulatory Commission (Commission) issued a notice on October 1, 2010 that it will hold a Commissioner-led Technical Conference on November 18, 2010 in the above-referenced proceeding to explore issues associated with reliability monitoring, enforcement and compliance. The Commission announced the conference in its September 16, 2010 order that accepted the North American Electric Reliability Corporation's initial assessment in Docket No. RR09-7-000 of its performance as the nation's Electric Reliability Organization (ERO), and performance by the Regional Entities, under their delegation agreements with the ERO.¹

¹ North American Electric Reliability Corporation; Reliability Standards Development and NERC and Regional Entity Enforcement, 132 FERC ¶ 61,217, at P 12 (2010).

This Technical Conference will be held in the Commission Meeting Room (2C) at Commission Headquarters, 888 First Street, NE., Washington, DC 20426, from 1 p.m. until 5 p.m. EST. Attached is the Agenda for the conference. The Commission will issue a later notice that lists the panelists for the conference.

The conference will be transcribed and Webcast. Transcripts of the conference will be immediately available for a fee from Ace-Federal Reporters, Inc. (202-347-3700 or 1-800-336-6646). A free webcast of the conference is also available through http://www.ferc.gov. Anyone with Internet access who desires to listen to this event can do so by navigating to http://www.ferc.gov's Calendar of Events and locating this event in the Calendar. The event will contain a link to its webcast. The Capitol Connection provides technical support for the webcasts and offers the option of listening to the meeting via phone-bridge for a fee. If you have any questions, visit http://www.CapitolConnection.org or call 703-993-3100.

All interested parties are invited and there is no registration list or registration fee to attend.

For further information, contact Roger Morie by e-mail at roger.morie@ferc.gov or by phone at 202-502-8446 (before November 11, 2010), and Gregory Campbell by e-mail at gregory.campbell@ferc.gov or by phone at 202-502-6465 (after November 11, 2010).

Nathaniel J. Davis, Sr.,
Deputy Secretary.

[FR Doc. 2010-28211 Filed 11-8-10; 8:45 am]

BILLING CODE 6717-01-P